DEPARTMENT OF COMMERCE

Office of the Secretary

Notice of an Opportunity To Serve on the Board of Directors of the Corporation for Travel Promotion

AGENCY: Office of the Secretary, U.S. Department of Commerce.

ACTION: Notice.

SUMMARY: The Department of Commerce is inviting expressions of interest to serve on the initial Board of Directors of the Corporation for Travel Promotion (Board) from leaders with knowledge of international travel promotion and marketing and who have expertise and experience in specific sectors of the travel and tourism industry. The purpose of the initial Board is to, among other things, serve as incorporators and establish the Corporation for Travel Promotion.

DATES: All information must be received by the Office of the Secretary at the email or postal address below by close of business (EDT) on May 10, 2010.

ADDRESSES: Please submit relevant information via e-mail to TPABoard@doc.gov or by mail to John Connor, Office of the Secretary, U.S. Department of Commerce, Room 5835, 1401 Constitution Avenue, NW., Washington, DC 20230.

SUPPLEMENTARY INFORMATION:

Background

The Travel Promotion Act of 2009 (TPA) was passed on February 25, 2010 and signed into law on March 4, 2010. The TPA establishes the Corporation for Travel Promotion (Corporation), a non-profit corporation that will communicate United States entry policies and otherwise promote leisure, business, and scholarly travel to the United States.

The TPA states that the Corporation shall develop and execute a plan to (A) provide useful information to those interested in traveling to the United States; (B) identify and address perceptions regarding U.S. entry policies; (C) maximize economic and diplomatic benefits of travel to the United States through the use of various promotional tools; and (D) ensure that international travel benefits all States and the District of Columbia, and identify opportunities to promote tourism to rural and urban areas equally, including areas not traditionally visited by international travelers.

The Corporation will be governed by a board of directors of eleven members with knowledge of international travel promotion and marketing and with appropriate expertise and experience in specific sectors of the travel and tourism industry. These members will broadly represent various regions of the United States.

Selection Criteria

The TPA directs the Secretary of Commerce (after consultation with the Secretary of Homeland Security and the Secretary of State) to appoint the board of directors for the Corporation for Travel Promotion. Thus, in accordance with the TPA, the Department of Commerce will be selecting individuals with the appropriate expertise and experience from specific sectors of the travel and tourism industry to serve on the Board as follows:

(A) 1 shall have appropriate expertise and experience in the hotel accommodations sector;

(B) 1 shall have appropriate expertise and experience in the restaurant sector;

(C) 1 shall have appropriate expertise and experience in the small business or retail sector or in associations representing that sector;

(D) 1 shall have appropriate expertise and experience in the travel distribution services sector;

(E) 1 shall have appropriate expertise and experience in the attractions or recreations sector;

(F) 1 shall have appropriate expertise and experience as officials of a city convention and visitors' bureau;

(G) 2 shall have appropriate expertise and experience as officials of a State tourism office;

(H) 1 shall have appropriate expertise and experience in the passenger air sector;

(I) 1 shall have appropriate expertise and experience in immigration law and policy, including visa requirements and United States entry procedures; and

(J) 1 shall have appropriate expertise in the intercity passenger railroad business.

To be eligible for Board membership, one must have international travel and tourism marketing experience and must also be a U.S. citizen. In addition, individuals cannot be federally registered lobbyists or registered as a foreign agent under the Foreign Agents Registration Act of 1938, as amended.

Those selected for the initial Board must be able to meet the time and effort commitments of the Board to establish the new Corporation.

Priority may be given to individuals with experience as a Chief Executive Officer or President (or comparable level of responsibility) of an organization or entity in the travel and tourism sector in the United States.

Board members will serve at the discretion of the Secretary of Commerce (who may remove any member of the Board for good cause).

The term of office of each member of the Board will be 3 years, except that, of the members first appointed: (A) 3 shall be appointed for terms of 1 year; (B) 4 shall be appointed for terms of 2 years; and (C) 4 shall be appointed for terms of 3 years. Board members can serve a maximum of two consecutive full three-year terms.

Board members are not considered Federal government employees by virtue of their service as a member of the Board and will receive no compensation from the Federal government for their participation in Board activities. Members participating in Board meetings and events will be paid actual travel expenses and per diem when away from their usual places of residence.

To be considered for membership, please provide the following:

1. Name, title, and personal resume of the individual requesting consideration; and

2. A brief statement of why the person should be considered for membership on the Board. This statement should also address the individual's relevant international travel and tourism marketing experience and indicate clearly the sector or sectors enumerated above in which the individual has the requisite expertise and experience. Individuals who have the requisite expertise and experience in more than one sector can be appointed from only one of those sectors.

Appointments of members to the Board will be made by the Secretary of Commerce.

Dated: April 13, 2010.
John Connor,
Director, Office of the Secretary.

[FR Doc. 2010-8856 Filed 4-16-10; 8:45 am]

BILLING CODE 3510-DR-P